DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: National Marine Sanctuary Permits.

OMB Control Number: 0648-0141.

Form Number(s): NA.

Type of Request: Regular submission (extension of a current information collection).

Number of Respondents: 634.

Average Hours per Response: General permit applications and reports, 1 hour, 30 minutes each; baitfish and lionfish permit applications and logs, 15 minutes each; special use permits and reports, 8 hours each; historical resource permits and reports, 13 hours each; Tortugas access requests and reports, 5 minutes each; permit amendments, 30 minutes; activity certification, 30 minutes; registering voluntary activities, 15 minutes; appeals, 24 hours.

Burden Hours: 1,703.

Needs and Uses: This request is for extension of a current information collection. National Marine Sanctuary regulations at 15 CFR part 922 list specific activities that are prohibited in national marine sanctuaries. These regulations also state that otherwise prohibited activities are permissible if a permit is issued by the Office of National Marine Sanctuaries (ONMS). Persons desiring a permit must submit an application, and anyone obtaining a permit is generally required to submit one or more reports on the activity allowed under the permit.

The recordkeeping and reporting requirements at 15 CFR part 922 form the basis for this collection of information. This information is required by the National Ocean Service's Office of National Marine Sanctuaries to protect and manage sanctuary resources as required by the National Marine Sanctuaries Act (16 U.S.C. 1431 et seq.).

Affected Public: Business or other for-profit organizations; not-for-profit institutions, state, local and tribal government.

Frequency: Annually and on occasion.

Respondent's Obligation: Required to obtain or retain benefits.

OMB Desk Officer: OIRA_Submission@omb.eop.gov.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to OIRA_Submission@omb.eop.gov.

Dated: December 16, 2011.
Gwellnar Banks,
Management Analyst, Office of the Chief Information Officer.

[FR Doc. 2011-32588 Filed 12-20-11; 8:45 am]

BILLING CODE 3510-NK-P